DEPARTMENT OF COMMERCE

National Oceanic and Atmospheric Administration

Interagency Ocean Observation Committee, Meeting of the Data Management and Communications Steering Team

AGENCY: National Ocean Service (NOS), National Oceanic and Atmospheric Administration (NOAA), U.S. Department of Commerce (DOC).

ACTION: Notice of open meeting.

SUMMARY: The U.S. Integrated Ocean Observing System (IOOS®) Program in NOAA publishes this notice on behalf of the Interagency Ocean Observation Committee (IOOC) to announce a formal meeting of the IOOC's Data Management and Communications Steering Team (DMAC-ST). The DMAC-ST membership is comprised of IOOC-approved federal agency representatives and non-federal participants representing academic, non-profit, private, regional and state sectors who will discuss issues outlined in the agenda.

DATES: The meeting is scheduled for February 27, 2013, between 8 a.m. and 5 p.m. and February 28, 2013, between 8 a.m. and 12 p.m., Eastern Standard Time.

ADDRESSES: The meeting will be broadcast via a conference telephone call. Public access is available at the Consortium for Ocean Leadership, 1201 New York Avenue NW., 4th Floor, Washington, DC 20005.

FOR FURTHER INFORMATION CONTACT: For further information about this notice, please contact the U.S. IOOS Program (Charles Alexander, 301-427-2429, Charles.Alexander@noaa.gov) or the IOOC Support Office (Joshua Young, 202-787-1622, jyoung@oceanleadership.org).

SUPPLEMENTARY INFORMATION: The IOOC was established by Congress under the Integrated Coastal and Ocean Observation System Act of 2009 and created under the National Ocean Research Leadership Council (NORLC). The DMAC-ST was subsequently chartered by the IOOC in December 2010 to assist with technical guidance with respect to the management of ocean data collected under the U.S. IOOS®. The IOOC's Web site (http://www.iooc.us/) contains more information about their charter and responsibilities. A summary of the DMAC-ST meetings, documentations, activities and terms of reference can also be found on-line, at the following address: http://www.iooc.us/committee-news/dmac.

Authority: 33 U.S.C. 3601-3610.

Dated: February 13, 2013.
Christopher C. Cartwright,
Associate Assistant Administrator for Management and CFO/CAO, Ocean Services and Coastal Zone Management.

[FR Doc. 2013-03824 Filed 2-19-13; 8:45 am]

BILLING CODE P